DEPARTMENT OF THE INTERIOR

Bureau of Land Management

[BLM_CO_FRN_MO4500182534]

Notice of Availability of the Record of Decision for the Approved Resource Management Plan Amendment for Big Game Habitat Conservation for Oil and Gas Management, Colorado

AGENCY: Bureau of Land Management, Interior.

ACTION: Notice of availability.

SUMMARY: The Bureau of Land Management (BLM) announces the availability of the Record of Decision (ROD) for the Approved Resource Management Plan (RMP) Amendment for Big Game Habitat Conservation for Oil and Gas Management in Colorado. The Colorado State Director signed the ROD on October 17, 2024, which constitutes the final decision of the BLM and makes the Approved RMP Amendment effective immediately.

DATES: The Colorado State Director signed the ROD on October 17, 2024.

ADDRESSES: The ROD/Approved RMP Amendment is available online at https://go.usa.gov/xzXxY. Printed copies of the ROD/Approved RMP Amendment are available for public inspection at the Colorado State Office, Denver Federal Center Building 40, Lakewood, CO 80215, or can be provided upon request by contacting the BLM at BLM_CO_corridors_planning@blm.gov.

A copy of the Protest Resolution Report is available at: https://www.blm.gov/programs/planning-and-nepa/public-participation/protest-resolution-reports.

FOR FURTHER INFORMATION CONTACT: Alan Bittner, Deputy State Director, Resources, telephone 303-239-3768; address BLM Colorado State Office, Attn: Big Game Corridor amendment/Environmental Impact Statement (EIS), Denver Federal Center Building 40, P.O. Box 151029, Lakewood, CO 80215; email BLM_CO_corridors_planning@blm.gov. Individuals in the United States who are deaf, deafblind, hard of hearing, or have a speech disability may dial 711 (TTY, TDD, or TeleBraille) to access telecommunications relay services for contacting Mr. Bittner. Individuals outside the United States should use the relay services offered within their country to make international calls to the point-of-contact in the United States.

SUPPLEMENTARY INFORMATION: The Approved RMP Amendment changes the following existing plans:

• Eastern Colorado RMP for the Royal Gorge Field Office (2024)

• San Luis Resource Area RMP (1991)

• Gunnison Resource Area RMP (1993)

• Uncompahgre Field Office RMP (2020)

• Colorado River Valley Field Office RMP (2015) and Roan Plateau Amendment (2016)

• Grand Junction Field Office RMP (2015)

• Kremmling RMP (2015)

• Little Snake RMP (2011)

• White River Field Office RMP (1997)

• Tres Rios Field Office RMP (2015)

• Canyons of the Ancients National Monument RMP (2010)

• Gunnison Gorge National Conservation Area RMP (2004)

The planning area includes all counties in Colorado and encompasses approximately 8.3 million acres of public land and approximately 27 million acres of Federal mineral estate. The decision area includes all 8.3 million acres of BLM-administered surface land (except where Federal minerals have been withdrawn from mineral leasing) plus approximately 4.7 million acres of Federal mineral split estate where the surface is owned by private owners, local government, or the State.

The Approved RMP Amendment describes the actions and management guidance for the conservation of big game High Priority Habitat (HPH) and oil and gas management. The RMP Amendment aligns BLM management of oil and gas in big game HPH with the Colorado Energy and Carbon Management Commission (ECMC) rules for oil and gas development in elk, mule deer, pronghorn, and bighorn sheep HPH (Rule 1202.c, d; Rule 1203). Where lands are open to oil and gas leasing under existing RMPs, the plan prescribes measures consistent with the ECMC rules to conserve seasonal habitats and connectivity within big game HPH in support of Colorado Parks and Wildlife's (CPW) big game population objectives. The approved RMP Amendment calls for the BLM to consider alternative locations for oil and gas operations that either avoid big game HPH altogether, or, where avoidance is not feasible, minimize adverse impacts to the maximum extent possible. The plan includes a controlled surface use stipulation that limits facility density to no more than one active oil and gas location per square mile in big game HPH. A consideration of CPW recommendations for route density is included as an objective and as a lease notice to further guide implementation.

This surface density limitation would require the operator to address adverse direct and unavoidable indirect impacts through mitigation. This includes avoidance, minimization, and compensatory mitigation strategies in subsequent implementation-level National Environmental Policy Act (NEPA) analyses for proposed actions that may result in big game HPH loss and degradation. Subsequent implementation-level mitigation could limit the duration and extent of development activities in big game HPH through all phases of development by avoiding activities in HPH, applying surface density and timing limitations, and mitigating residual impacts. The BLM may also require compensatory mitigation to offset disturbance or density limitation exceedances and adverse direct and unavoidable indirect impacts that result in the functional loss of habitat from oil and gas development in big game HPH. The BLM, after coordination with CPW, will determine whether compensatory mitigation proposed by the operator is sufficient to protect big game HPH from adverse direct and unavoidable indirect impacts.

The BLM has the discretion to require an operator to modify surface operations to change or add specific mitigation measures when supported by scientific analysis and consistent with existing rights. Potential mitigation or conservation measures not already required as stipulations would be analyzed in a site-specific NEPA document and incorporated, as appropriate, as conditions of approval of the permit, plan of development, or other use authorization. The plan would require operators to develop and implement mitigation plans to minimize and offset direct, indirect, and cumulative adverse impacts. The RMP Amendment includes management guidance for enhanced coordination and use of best available science and information during implementation.

The BLM provided the Proposed RMP/Final EIS on July 19, 2024, for a 30-day protest period and did not receive any valid protests. No changes to the Proposed RMP Amendment/EIS were necessary.

The BLM provided the Proposed RMP Amendment to the Governor of Colorado for a 60-day Governor's consistency review. No inconsistencies with State or local plans, policies, or programs were identified during the Governor's consistency review of the Proposed RMP Amendment. No changes to the RMP Amendment or EIS were necessary as a result of the Governor's consistency review.

(Authority: 40 CFR 1506.6, 40 CFR 1506.10, 43 CFR 1610.2)

Douglas J. Vilsack,
State Director.

[FR Doc. 2024-24336 Filed 10-21-24; 8:45 am]

BILLING CODE 4331-16-P